DEPARTMENT OF TRANSPORTATION

Federal Motor Carrier Safety Administration

[Docket No. FMCSA-2025-0091]

Agency Information Collection Activities; Renewal of a New Information Collection Request: Lease and Interchange of Vehicles

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. This ICR will enable FMCSA to document the burden associated with the for-hire truck leasing regulations and passenger carrier regulations. These regulations require certain for-hire property carriers and certain for-hire and private passenger carriers to have a formal lease when leasing equipment from other motor carriers. One public comment was received in response to the 60-day notice.

DATES: Comments on this notice must be received on or before December 17, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Stacy Ropp, Compliance Division, DOT, FMCSA, 1200 New Jersey Avenue SE, Washington, DC 20590-0001; (609) 661-2062; Stacy.Ropp@dot.gov.

SUPPLEMENTARY INFORMATION:

Title: Lease and Interchange of Vehicles.

OMB Control Number: 2126-0056.

Type of Request: Renewal of currently approved ICR.

Respondents: Motor carriers authorized by the Secretary to transport property and passengers that use leased equipment.

Estimated Number of Respondents: 31,677 [28,758 property carriers (lessees and lessors) + 2,013 interstate authorized for-hire passenger carriers (lessees and lessors) + 236 interstate exempt for-hire passenger carriers (lessees and lessors) + 671 interstate private motor carriers of passengers (lessees and lessors)].

Estimated Time per Response: Varies from 5 to 30 minutes.

Expiration Date: December 31, 2025.

Frequency of Response: On occasion.

Estimated Total Annual Burden: 186,102 hours [28,758 hours for master lease (creation of master leases by lessees and lessors that are property carriers) + 48,446 hours for standard statement (creation of a statement or copy of the lease to be carried in each leased truck tractor) + 93,395 hours for one-time lease negotiations by lessees and lessors that are passenger carriers + 15,504 hours for lease documentation by lessees and lessors that are passenger carriers + zero or de minimis hours for lease copying by passenger carriers].

Background

Under 49 United States Code (U.S.C.) 14102(a), The Secretary of Transportation (Secretary) “may require a motor carrier providing for-hire transportation that uses motor vehicles not owned by it to transport property under an arrangement with another party to

(1) make the arrangement in writing signed by the parties specifying its duration and the compensation to be paid by the motor carrier;

(2) carry a copy of the arrangement in each motor vehicle to which it applies during the period the arrangement is in effect;

(3) inspect the motor vehicles and obtain liability and cargo insurance on them; and

(4) have control of and be responsible for operating those motor vehicles in compliance with requirements prescribed by the Secretary on safety of operations and equipment, and with other applicable law as if the motor vehicles were owned by the motor carrier.”

The Secretary has delegated authority pertaining to leased motor vehicles to FMCSA pursuant to 49 CFR 1.87(a)(6). The Agency's regulations governing leased motor vehicles are at 49 CFR part 376.

The regulations were adopted to ensure that small trucking companies would be protected when they agreed to lease their equipment and drivers to larger for-hire carriers. They also ensure the government and members of the public can determine who is responsible for a property-carrying commercial motor vehicle (CMV). Prior to adoption of the regulations, some equipment was leased without written agreements, leading to disputes over which party to the lease was responsible for charges and actions and, at times, who was legally responsible for the vehicle.

The regulations specify what must be covered in the lease but leave open how many responsibilities must be divided. The parties to the lease determine numerous details between themselves.

Part 376 applies only to certain motor carriers in interstate commerce and only to certain leasing situations based on exemptions set forth in § 376.11, which cross reference other provisions in part 376. Section 376.11 provides that an authorized carrier (a person or persons authorized to engage in the transportation of property as a motor carrier under the provisions of 49 U.S.C. 13901 and 13902) may perform authorized transportation using equipment it does not own only when the following conditions are met:

(1) There shall be a written lease granting the use of the equipment and meeting the requirements contained in § 376.12;

(2) Receipts, specifically identifying the equipment to be leased and stating the date and time of day possession is transferred, shall be given; and

(3) The authorized carrier acquiring the use of equipment under this section shall identify the equipment as being in its service.

Passenger transportation. FMCSA can regulate the lease and interchange of passenger-carrying CMVs based on the authority of the Motor Carrier Act of 1935 and the Motor Carrier Safety Act of 1984, as amended. FMCSA's regulations about the lease and interchange of passenger-carrying CMVs in 49 CFR part 390 subpart G help ensure that passenger carriers cannot evade FMCSA oversight and enforcement by entering into lease agreements to operate under the authority of another carrier that exercises no control over these operations. Motor carriers that:

(1) operate passenger-carrying CMVs,

(2) have active operating authority registration with FMCSA to transport passengers, and

(3) engage in the lease or interchange of passenger-CMVs with other motor carriers that have active operating authority registration with FMCSA to transport passengers, are not subject to the regulations in 49 CFR part 390 subpart G and the recordkeeping requirements therein.

Such regulations and requirements also do not apply to financial leases (such as a closed-end lease, hire purchase, lease purchase, purchase agreement, installment plan, demonstration or loaner vehicle, etc.) between a motor carrier and a bank or similar financial organization or a manufacturer or dealer of passenger-carrying CMVs.

Section 390.403(b) specifies the four required items of information that any lease or interchange record document for passenger-carrying CMVs is required to contain. These are:

(1) vehicle identification information;

(2) information about and signatures of the involved motor carriers of passengers (the lessor and the lessee);

(3) specific duration of the lease or interchange agreement; and

(4) a clear statement about exclusive possession and responsibilities.

Section 390.403(c) requires a copy of the lease or interchange agreement be on the passenger-carrying CMV during the period of the lease or interchange agreement. Both the lessee and lessor must retain a copy of the lease or interchange agreement for one year after the expiration date.

These property carrier and passenger carrier provisions account for the burden in this information collection. The program change decrease of 26,154 estimated annual burden hours (186,102 proposed estimated annual burden hours—212,256 currently approved estimated annual burden hours) is due to the availability of new data. Previous estimates were based on 2021 data. Current property carrier and passenger carrier-related estimates are based on the December 27, 2024, Motor Carrier Management Information System and Safety Measurement System snapshots. The data pulled for the current ICR shows a decrease in the overall number of affected property carriers and an increase in the overall number of affected passenger carriers from the data used in the previous ICR. The decrease in the number of affected property carriers was greater than the increase in the overall number of affected passenger carriers which resulted in a decrease in the overall burden hours associated with this ICR.

FMCSA received one public comment in response to the 60-day notice published in the Federal Register on May 28, 2025 (90 FR 22560). The comment stated that the proposed agency collection should be extended for accountability needs of reporting applicable contract expenditures and passenger carrier regulations. FMCSA agrees that the IC should be renewed for another 3 years.

Public Comments Invited: You are asked to comment on any aspect of this information collection, including:

(1) whether the proposed collection is necessary for the performance of FMCSA's functions;

(2) the accuracy of the estimated burden;

(3) ways for FMCSA to enhance the quality, usefulness, and clarity of the collected information; and

(4) ways that the burden could be minimized without reducing the quality of the collected information.

Issued under the authority of 49 CFR 1.87.

Nicole Michel,
Acting Associate Administrator, Office of Research and Registration.

[FR Doc. 2025-19974 Filed 11-14-25; 8:45 am]

BILLING CODE 4910-EX-P